DEPARTMENT OF AGRICULTURE

Submission for OMB Review; Comment Request

October 19, 2021.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 22, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Risk Management Agency

Title: Acreage/Crop Reporting Streamlining Initiative.

OMB Control Number: 0563-0084.

Summary of Collection: Section 508(f)(3) of the Federal Crop Insurance Act (7 U.S.C. 1515); 7 U.S.C. 7333(b)(3); 7 CFR 457.8 and 7 CFR 1437.7(d) mandates the collection of acreage and production information from producers who wish to participate in certain USDA programs. The Farm Service Agency (FSA) and the Risk Management Agency (RMA) are implementing the Acreage/Crop Reporting Streamlining Initiative (ACRSI), a web-based single source reporting system to establish a single reporting and data collection.

Need and use of the Information: This initiative is being conducted in phases by geographical area and additional commodities. Counties are selected based on their commonality of historical crop reporting, high percentage of producers participating in both RMA and FSA programs and the high level of interest of the private agricultural service industry (precision-ag and farm management) in the pilot phases. It will reengineer the procedures, processes, and standards to simplify commodity, acreage and production reporting by producers, eliminate or minimize duplication of information collection by multiple agencies and reduce the burden on producers, insurance agents and AIPs. Information being collected will consist of, but not be limited to: Producer name, location state, commodity name, commodity type or variety, location county, date planted, land location (legal description, FSA farm number, FSA track number, FSA field number), intended use, prevented planting acres, acres planted but failed, planted acres, and production of commodity produced. Failure to collect the applicable information could result in unearned Federal benefits being issued or producers being denied eligibility to program benefits.

Description of Respondents: Individuals and households.

Number of Respondents: 500,000.

Frequency of Responses: Reporting: One time.

Total Burden Hours: 187,500.

Levi S. Harrell,
Departmental Information Clearance Officer.

[FR Doc. 2021-23061 Filed 10-21-21; 8:45 am]

BILLING CODE 3410-08-P